DEPARTMENT OF THE INTERIOR

National Park Service

[NPS-WASO-NAGPRA-NPS0037526; PPWOCRADN0-PCU00RP14.R50000]

Notice of Intended Disposition: U.S. Army Corps of Engineers, St. Louis District, St. Louis, MO

AGENCY: National Park Service, Interior.

ACTION: Notice.

SUMMARY: In accordance with the Native American Graves Protection and Repatriation Act (NAGPRA), the U.S. Army Corps of Engineers, St. Louis District, intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after April 5, 2024. If no claim for disposition is received by March 6, 2025, the human remains or cultural items in this notice will become unclaimed human remains or cultural items.

ADDRESSES: Jenna Domeischel, U.S. Army Corps of Engineers, St. Louis District, 1222 Spruce Street, ATTN: CEMVS-EC-Z, St. Louis, MO 63103, telephone (314) 331-8840, email jenna.domeischel@usace.army.mil.

SUPPLEMENTARY INFORMATION: This notice is published as part of the National Park Service's administrative responsibilities under NAGPRA. The determinations in this notice are the sole responsibility of the U.S. Army Corps of Engineers, St. Louis District, and additional information on the human remains or cultural items in this notice, including the results of consultation, can be found in the related records. The National Park Service is not responsible for the identifications in this notice.

Abstract of Information Available

The 55 associated funerary objects are two lots of soil, 41 ceramics, two shell fragments, seven lithics, one groundstone, and two small rocks. In July 2017, human remains and associated funerary objects were discovered at Mark Twain Lake, Monroe County, Missouri, by a member of the public. These remains and one associated funerary object were previously reported in a newspaper notice in 2023 (Hannibal Courier-Post on September 20 and 27 and Tulsa World on November 1 and 8). The remains and objects are currently stored at a secure location in the St. Louis District laboratory.

Determinations

The U.S. Army Corps of Engineers, St. Louis District, has determined that:

• The 55 objects described in this notice are reasonably believed to have been placed intentionally with or near individual human remains at the time of death or later as part of the death rite or ceremony.

• The U.S. Army Corps of Engineers, St. Louis District, has identified The Osage Nation as having priority for disposition of the cultural items described in this notice.

Claims for Disposition

Written claims for disposition of the human remains or cultural items in this notice must be sent to the appropriate official identified in this notice under ADDRESSES. If no claim for disposition is received by March 6, 2025, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after April 5, 2024. If competing claims for disposition are received, the U.S. Army Corps of Engineers, St. Louis District, must determine the most appropriate claimant prior to disposition. Requests for joint disposition of the human remains or cultural items are considered a single request and not competing requests. The U.S. Army Corps of Engineers, St. Louis District, is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 27, 2024.
Melanie O'Brien,
Manager, National NAGPRA Program.

[FR Doc. 2024-04661 Filed 3-5-24; 8:45 am]

BILLING CODE 4312-52-P